COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List products and services to be furnished by nonprofit agencies employing persons who are blind or have other severe disabilities, and to delete products and services previously furnished by such agencies.

Comments Must be Received on or Before: March 12, 2006.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703)603-0655, or e-mail SKennerly@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal government identified in this notice for each product or service will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and service to the government.

2. If approved, the action will result in authorizing small entities to furnish the product and service to the government.

3. There are no known regulatory alternatives which would accomplish the objectives of the Javits-Wagner-O'Day Act (41 U.S.C. 46-48c) in connection with the product and service proposed for addition to the Procurement List.

Comments on this certification are invited. Commenters should identify the statement(s) underlying the certification on which they are providing additional information.

End of Certification

The following product and service are proposed for addition to Procurement List for production by the nonprofit agencies listed:

Product

Product/NSN: Grommet, Rotating Band,

8140-01-051-9953 (6.95″ DIA, 2.585″ L).

NPA: L.C. Industries for the Blind, Inc., Durham, NC.

Contracting Activity: U.S. Army Field Support Command, Rock Island, IL.

Service

Service Type/Location: Document Destruction,

USDA, Animal and Plant Health Inspection Service,

100 North Sixth Street Butler Square West 5th Floor,

Food Safety Inspection Service,

Minneapolis, MN.

NPA: AccessAbility, Inc., Minneapolis, MN.

Contracting Activity: USDA, Animal & Plant Health Inspection Service, Minneapolis, MN.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the government.

3. There are no known regulatory alternatives which would accomplish the objectives of the Javits-Wagner-O'Day Act (41 U.S.C. 46-48c) in connection with the products and services proposed for deletion from the Procurement List.

End of Certification

The following products and services are proposed for deletion from the Procurement List:

Products

Product/NSN: Binder, Loose-leaf,

7510-00-965-2442.

NPA: ForSight Vision, York, PA.

Contracting Activity: Office Supplies & Paper Products Acquisition Center, New York, NY.

Product/NSNs: Cross “Solo” Pen and Refill,

7520-01-424-4846,

7520-01-424-4848,

7520-01-424-4860,

7520-01-424-4871,

7520-01-424-4881.

NPA: In-Sight, Warwick, RI.

Contracting Activity: Office Supplies & Paper Products Acquisition Center, New York, NY.

Product/NSNs: Flu Detection Kit,

6550-00-NIB-0001,

6550-00-NIB-0002.

NPA: San Antonio Lighthouse for the Blind, San Antonio, TX.

Contracting Activity: Office Supplies & Paper Products Acquisition Center, New York, NY.

Product/NSNs: Mailers, Audio Cassette,

8105-01-386-2181,

8105-01-386-2189.

NPA: ForSight Vision, York, PA.

Contracting Activity: Office Supplies & Paper Products Acquisition Center, New York, NY.

Product/NSNs: Remanufactured Ink Jet Cartridge,

7510-01-443-2122 (HP51629A),

7510-01-443-2123 (HP51626A).

NPA: Work Transition Services, San Bruno, CA.

Contracting Activity: Office Supplies & Paper Products Acquisition Center, New York, NY.

Product/NSNs: Sign Kit, Contaminate,

9905-01-363-0872,

9905-01-363-0873,

9905-01-363-0875,

9905-01-363-0876,

9905-01-363-0877.

NPA: Georgia Industries for the Blind, Bainbridge, GA.

Contracting Activity: Department of the Navy.

Services

Service Type/Location: Custodial & Grounds Maintenance,

Federal Building, U.S. Post Office and Courthouse,

600 East First Street,

Rome, GA.

NPA: Bobby Dodd Institute, Inc., Atlanta, GA.

Contracting Activity: GSA, Property Management Center (4PMB), Atlanta, GA.

Sheryl D. Kennerly,
Director, Information Management.

[FR Doc. E6-1840 Filed 2-9-06; 8:45 am]

BILLING CODE 6353-01-P